DEPARTMENT OF DEFENSE

Request for Public Comments on the Definition of “Produced” in Defense Federal Acquisition Regulation Supplement (DFARS) 225.7003, Restrictions on Acquisition of Specialty Metals

AGENCY: Department of Defense (DoD).

ACTION: Request for public comments.

SUMMARY: The Department of Defense is seeking public comments on the definition of “produced” in Defense Federal Acquisition Regulation Supplement (DFARS) 225.7003, Restrictions on acquisition of specialty metals.

DATES: Submit written comments to the address shown below on or before September 8, 2011. Comments received will be considered by DoD in the formation of a recommendation to the Secretary of Defense if a revision to the definition is necessary and appropriate.

ADDRESSES: Submit comments to: Director, Defense Procurement and Acquisition Policy, 3060 Defense Pentagon, Washington, DC 20301-3060, or e-mail to patricia.foley@osd.mil.

FOR FURTHER INFORMATION CONTACT: Patricia Foley, telephone 703-693-1145.

SUPPLEMENTARY INFORMATION: The Department of Defense (DoD) is conducting a review of DFARS 225.7003, Restrictions on acquisition of specialty metals, to determine whether it complies with the requirements of section 2533b of title 10, United States Code, as required by section 823 of the National Defense Authorization Act for Fiscal Year 2011 (Pub. L. 111-383). DoD is seeking public comments on the definition of “produced” in the course of its review. Public comments from industry and industry associations should provide sales and market share data regarding the proportion of specialty metals acquired for DoD major weapons systems. DoD will use these submissions as part of its internal deliberations. Any amendments to the acquisition regulations resulting from these deliberations will be subject to approval by the Defense Acquisition Regulations Council.

Background: Section 842 of the National Defense Authorization Act for Fiscal Year 2007 (Pub. L. 109-364) added new provisions at 10 U.S.C. 2533b to address requirements for the purchase of specialty metals from domestic sources. 10 U.S.C. 2533b restricts DoD's acquisition of end items containing specialty metals to those “melted or produced” in the United States unless the acquisition meets one of the exceptions in the law. The statute specifically included the phrase “melted or produced,” allowing that melting was not the only acceptable process for creation of domestic specialty metals.

DoD published a proposed rule under DFARS Case 2008-D003, Restriction on Acquisition of Specialty Metals, at 73 FR 42300 on July 21, 2008. DoD considered public comments submitted in response to the proposed rule in the formation of a final rule. DoD published a final rule at 74 FR 37626 on July 29, 2009. The Federal Register notice summarized the concerns expressed in the public comments submitted in response to the proposed rule and the reasoning used in drafting the definition.

DoD defined the term “produce” in the final DFARS rule to incorporate technological progress in the industry that resulted in the production of some specialty metals without requiring melting. The DFARS defines “produce” for use in the specialty metals clause as “the application of forces or processes to a specialty metal to create the desired physical properties through quenching or tempering of steel plate, gas atomization or sputtering of titanium, or final consolidation of non-melt derived titanium powder or titanium alloy powder.”

Ynette R. Shelkin,
Editor, Defense Acquisition Regulations System.

[FR Doc. 2011-18383 Filed 7-22-11; 8:45 am]

BILLING CODE 5001-08-P